ENVIRONMENTAL PROTECTION AGENCY

[FRL-9994-43-OMS]

Good Neighbor Environmental Board; Notification of Federal Advisory Committee Meeting

AGENCY: Environmental Protection Agency (EPA).

ACTION: Notice of Federal Advisory Committee meeting.

SUMMARY: Pursuant to the Federal Advisory Committee Act, Public Law 92-463, notice is hereby given that the Good Neighbor Environmental Board will hold a public meeting on Thursday, June 27 and Friday, June 28, 2019 in Imperial Beach, California. The meeting is open to the public.

DATES: The Good Neighbor Environmental Board will hold an open meeting on Thursday, June 27 from 9 a.m. (registration at 8:30 a.m.) to 5:30 p.m. The following day, Friday, June 28, the Board will meet from 8:30 a.m. (registration at 8 a.m.) until 2 p.m.

Purpose of Meeting: The purpose of this meeting is to begin discussion on the Good Neighbor Environmental Board's next report. Local officials and representatives of Federal departments and agencies will be making presentations and giving an overview of regulatory and permitting processes to promote development of new energy infrastructure in the U.S.—Mexico border region.

ADDRESSES: The meeting will be held at the Marriott Pier South, 800 Seacoast Drive, Imperial Beach, California. The meeting is open to the public, with limited seating on a first-come, first-serve basis.

General Information: The agenda will be available at http://www2.epa.gov/faca/gneb. General information about the Board can be found on its website at http://www2.epa.gov/faca/gneb. If you wish to make oral comments or submit written comments to the Board, please contact Ann-Marie Gantner at least five days prior to the meeting. Written comments should be submitted to Ann-Marie Gantner at gantner.ann-marie@epa.gov.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: May 19, 2019.
Ann-Marie Gantner,
Program Analyst.

[FR Doc. 2019-11619 Filed 6-3-19; 8:45 am]

BILLING CODE 6560-50-P